DEPARTMENT OF HOMELAND SECURITY

[Docket No. DHS-2014-0032]

President's National Security Telecommunications Advisory Committee

AGENCY: National Protection and Programs Directorate, Department of Homeland Security (DHS).

ACTION: Committee Management Notice of an Open Federal Advisory Committee Meeting.

SUMMARY: The President's National Security Telecommunications Advisory Committee (NSTAC) will meet via teleconference on Wednesday, August 13, 2014. The meeting will be open to the public.

DATES: The NSTAC will meet on Wednesday, August 13, 2014, from 2:00 p.m. to 3:00 p.m. Please note that the meeting may close early if the committee has completed its business.

ADDRESSES: The meeting will be held via conference call. For access to the conference call bridge or for information on services for individuals with disabilities or to request special assistance to attend, please contact Ms. Sandy Benevides by email at Sandra.Benevides@hq.dhs.gov or phone at (703) 235-5408 by 5:00 p.m. on Friday, August 8, 2014.

To facilitate public participation, we are inviting public comment on the issues to be considered by the committee, as listed in the SUPPLEMENTARY INFORMATION section below. Associated briefing materials that will be discussed at the meeting will be available at www.dhs.gov/nstac for review as of August 1, 2014. Comments must be submitted in writing no later than August 22, 2014, and must be identified by docket number DHS-2014-0032. Comments may be submitted by one of the following methods:

• Federal eRulemaking Portal: http://www.regulations.gov. Follow the instructions for submitting written comments.

• Email: NSTAC@hq.dhs.gov. Include the docket number in the subject line of the email message.

• Fax: 703-235-5962.

• Mail: Designated Federal Officer, Stakeholder Engagement and Critical Infrastructure Resilience Division, National Protection and Programs Directorate, Department of Homeland Security, 245 Murray Lane, Mail Stop 0615, Arlington, VA, 20598-0615.

Instructions: All submissions received must include the words “Department of Homeland Security” and the docket number for this action. Comments received will be posted without alteration at www.regulations.gov, including any personal information provided.

Docket: For access to the docket and comments received by the NSTAC, go to www.regulations.gov and enter docket number DHS-2014-0032.

A public comment period will be held during the conference call on Wednesday, August 13, 2014, from 2:45 p.m. to 3:00 p.m. Speakers who wish to participate in the public comment period must register in advance no later than Friday, August 8, 2014, at 5:00 p.m. by emailing Sandy Benevides at Sandra.Benevides@hq.dhs.gov. Speakers are requested to limit their comments to three minutes and will speak in order of registration. Please note that the public comment period may end before the time indicated, following the last request for comments.

FOR FURTHER INFORMATION CONTACT: Ms. Helen Jackson, NSTAC Designated Federal Officer, Department of Homeland Security, telephone (703) 235-5321 or Helen.Jackson@dhs.gov.

SUPPLEMENTARY INFORMATION: Notice of this meeting is given under the Federal Advisory Committee Act, 5 U.S.C. App. The NSTAC advises the President on matters related to national security and emergency preparedness (NS/EP) telecommunications policy.

Agenda: The NSTAC members will discuss the status of two current studies. The first study to be discussed is regarding the needs, benefits, and operational efficacy of a national Information and Communications Technology mobilization capability in the face of a cyber-related event of national significance. The second study to be discussed is examining the cybersecurity implications of the Internet of Things as it relates to national security and emergency preparedness. Additionally, in coordination with senior leaders from the White House and DHS, the members will discuss potential study topics.

Dated: July 18, 2014.
Helen Jackson,
Designated Federal Officer for the NSTAC.

[FR Doc. 2014-17427 Filed 7-23-14; 8:45 am]

BILLING CODE 9110-9P-P